DEPARTMENT OF ENERGY

Federal Energy Regulatory Commission

[Docket No. CP09-418-000]

Perryville Gas Storage LLC; Notice of Intent To Prepare an Environmental Assessment for the Proposed Crowville Salt Dome Storage Project and Request for Comments on Environmental Issues, and Notice of Public Scoping Meeting and Site Visit

June 26, 2009.

The staff of the Federal Energy Regulatory Commission (FERC or Commission) will prepare an environmental assessment (EA) that will discuss the environmental impacts of the Crowville Salt Dome Storage Project (Project) involving construction and operation of facilities by Perryville Gas Storage LLC (Perryville) in Franklin and Richland Parishes, Louisiana. This EA will be used by the Commission in its decisionmaking process to determine whether the project is in the public convenience and necessity.

This notice announces the opening of the scoping process we will use to gather input from the public and interested agencies on the project. Your input will help the Commission staff determine what issues need to be evaluated in the EA. Please note that the scoping period will close on July 27, 2009.

Comments may be submitted in written form or verbally. Further details on how to submit written comments are provided in the public participation section of this notice. In lieu of sending written comments, we invite you to attend the public scoping meeting we have scheduled as follows: FERC Public Scoping Meeting, Crowville Salt Dome Storage Project, Tuesday, July 14, 2009, 7 p.m., Crockett Point Baptist Church, 139 Crockett Point Church Road, Winnsboro, Louisiana 71295.

Interested groups and individuals are encouraged to attend the meeting and to present comments on the environmental issues they believe should be addressed in the EA. A transcript of the meeting will be generated so that your comments will be accurately recorded.

In addition, on July 14, 2009, the FERC staff will conduct a public site visit to view the proposed facility locations and pipeline route. Examination will be by automobile and on foot. Representatives of Perryville will be accompanying the FERC staff. All interested parties may attend. Those planning to attend must provide their own transportation and should meet at the Crockett Point Baptist Church at 1 p.m., at the address listed above. For additional information, you may contact the Commission's Office of External Affairs at 1-866-208-FERC (3372).

This notice is being sent to affected landowners; Federal, State, and local government representatives and agencies; elected officials; environmental and public interest groups; Native American Tribes; parties to this proceeding; and local libraries and newspapers. State and local government representatives are asked to notify their constituents of this proposed project and encourage them to comment on their areas of concern.

If you are a landowner receiving this notice, you may be contacted by a pipeline company representative about the acquisition of an easement to construct, operate, and maintain the proposed facilities. The company would seek to negotiate a mutually acceptable agreement. However, if the project is approved by the Commission, that approval conveys with it the right of eminent domain. Therefore, if easement negotiations fail to produce an agreement, the pipeline company could initiate condemnation proceedings in accordance with State law.

A fact sheet prepared by the FERC entitled “An Interstate Natural Gas Facility On My Land? What Do I Need To Know?” was attached to the project notice Perryville provided to landowners. This fact sheet addresses a number of typically asked questions, including the use of eminent domain and how to participate in the Commission's proceedings. It is also available for viewing on the FERC Web site (http://www.ferc.gov).

Summary of the Proposed Project

Perryville requests authorization to construct, own and operate a new natural gas storage facility in the Crowville Salt Dome, as well as related facilities in Franklin and Richland Parishes, Louisiana. Upon completion of the proposed facilities, the Project would provide a total of 15 billion cubic feet (Bcf) of natural gas storage working capacity in two salt caverns, with a maximum injection rate of up to 226 million cubic feet per day (MMcf/d) and a maximum withdrawal rate of 600 MMcf/d.

According to Perryville, its project would provide necessary gas infrastructure, add new competitive storage facilities to the U.S. natural gas market, and support further development of domestic gas production in the Gulf Coast and Mid-Continent regions.

The Crowville Gas Storage Project would consist of the following facilities:

• Two 7.5 billion cubic feet (Bcf) working gas capacity natural gas storage caverns connected to 1000 feet of utility corridor for an 8-inch-diameter freshwater pipeline, an 8-inch-diameter brine pipeline, a 14-inch-diameter natural gas pipeline, and a permanent access road;

• 2.6 miles of 24-inch-diameter pipeline to deliver to CenterPoint Energy Gas Transmission Company and 11.8 miles of 36-inch-diameter pipeline to deliver to Columbia Gulf Transmission;

• One 9,500 horsepower compressor station facility and multi-purpose buildings;

• Leaching facilities with 0.8 mile of 20-inch-diameter brine pipeline and 14-inch-diameter freshwater pipeline connecting to three brine settling ponds;

• Two 20-inch-diameter brine disposal pipelines (2.3 miles and 0.9 mile) connecting to five brine disposal well pads; and

• About ten access roads, a wareyard, and four freshwater supply wells.

The general location of the project facilities is shown in appendix 1.¹

¹ The appendices referenced in this notice are not being printed in the Federal Register. Copies of appendices were sent to all those receiving this notice in the mail and are available at http://www.ferc.gov using the link called “eLibrary” or from the Commission's Public Reference Room, 888 First Street, NE., Washington, DC 20426, or call (202) 502-8371. For instructions on connecting to eLibrary, refer to the last page of this notice.

Land Requirements for Construction

Construction of the Natural Gas Handling Facilities would disturb about 39 acres, including land for the two storage caverns, the compressor station, a 100-foot-wide utility corridor, leaching plant, and 4 freshwater supply wells. The leaching facilities would disturb an additional 30 acres of land for the brine disposal ponds and brine and water pipelines. Construction of the brine disposal wells would disturb a total of 12.7 acres (2.54 acres for each of 5 wells), while operation of the brine disposal wells would be limited to a total of 1.4 acres (0.28 acre per well).

The first pipeline corridor would consist of 2.6 miles of a 150-foot-wide corridor (for two pipelines), while the second corridor would disturb an additional 9.2 miles of 125-foot-wide corridor. The total acreage for construction of the pipelines would be about 188 acres. Following construction, about 88.5 acres would be maintained for 75- and 60-foot-wide permanent pipeline rights-of-way; the remaining acreage would be restored and allowed to revert to former uses. About 10 miles of the proposed pipeline route parallels an existing Columbia Gulf natural gas pipeline right-of-way.

The EA Process

The National Environmental Policy Act (NEPA) requires the Commission to take into account the environmental impacts that could result from an action whenever it considers the issuance of a Certificate of Public Convenience and Necessity. NEPA also requires us to discover and address concerns the public may have about proposals. This process is referred to as “scoping”. The main goal of the scoping process is to focus the analysis in the EA on the important environmental issues. By this notice, the Commission requests public comments on the scope of the issues to address in the EA. All comments received will be considered during the preparation of the EA.

In the EA we ² will discuss impacts that could occur as a result of the construction and operation of the proposed project under these general headings:

² “We”, “us”, and “our” refer to the environmental staff of the Commission's Office of Energy Projects.

• Geology and soils;

• Land use;

• Water resources, fisheries, and wetlands;

• Cultural resources;

• Vegetation and wildlife;

• Air quality and noise;

• Endangered and threatened species;

• Hazardous waste; and

• Public safety.

We will also evaluate possible alternatives to the proposed project or portions of the project, and make recommendations on how to lessen or avoid impacts on the various resource areas.

Our independent analysis of the issues will be presented in the EA. Depending on the comments received during the scoping process, the EA may be published and mailed to those on our environmental mailing list (see discussion of how to remain on our mailing list on page 6). A comment period will be allotted for review if the EA is published. We will consider all comments on the EA before we make our recommendations to the Commission. To ensure your comments are considered, please carefully follow the instructions in the Public Participation section below.

With this notice, we are asking agencies with jurisdiction and/or special expertise with respect to environmental issues to formally cooperate with us in the preparation of the EA. These agencies may choose to participate once they have evaluated the proposal relative to their responsibilities. Agencies that would like to request cooperating agency status should follow the instructions for filing comments provided under the Public Participation section of this notice.

Public Participation

You can make a difference by providing us with your specific comments or concerns about the project. Your comments should focus on the potential environmental effects, reasonable alternatives, and measures to avoid or lessen environmental impacts. The more specific your comments, the more useful they will be. To ensure that your written comments are timely and properly recorded, please send in your comments so that they will be received in Washington, DC on or before July 27, 2009.

For your convenience, there are three methods which you can use to submit your written comments to the Commission. The Commission encourages electronic filing of comments and has expert eFiling staff available to assist you at 202-502-8258 or efiling@ferc.gov.

(1) You may file your comments electronically by using the Quick Comment feature, which is located at http://www.ferc.gov under the link called “Documents and Filings”. A Quick Comment is an easy method for interested persons to submit text-only comments on a project;

(2) You may file your comments electronically by using the “eFiling” feature that is listed under the “Documents and Filings” link. eFiling involves preparing your submission in the same manner as you would if filing on paper, and then saving the file on your computer's hard drive. You will attach that file to your submission. New eFiling users must first create an account by clicking on the links called “Sign up” or “eRegister”. You will be asked to select the type of filing you are making. A comment on a particular project is considered a “Comment on a Filing”; or

(3) You may file your comments with the Commission via mail by sending an original and two copies of your letter to: Kimberly D. Bose, Secretary, Federal Energy Regulatory Commission, 888 First Street, NE., Room 1A, Washington, DC 20426.

In all instances, please reference the project docket number CP09-418-000 with your submission. Label one copy of the comments for the attention of Gas Branch 2, PJ-11.2.

Environmental Mailing List

An effort is being made to send this notice to all individuals, organizations, and government entities interested in and/or potentially affected by the proposed project. This includes all landowners who are potential right-of-way grantors, whose property may be used temporarily for project purposes, or who own homes within certain distances of aboveground facilities (as defined in the Commission's regulations).

If you do not want to send comments at this time but still want to remain on our mailing list, please return the Information Request (appendix 2). If you do not return the Information Request, you will be taken off the mailing list.

Becoming an Intervenor

In addition to involvement in the EA scoping process, you may want to become an “intervenor,” which is an official party to the Commission's proceeding. Intervenors play a more formal role in the process and are able to file briefs, appear at hearings, and be heard by the courts if they choose to appeal the Commission's final ruling. An intervenor formally participates in the proceeding by filing a request to intervene. Instructions for becoming an intervenor are included in the User's Guide under the “e-filing” link on the Commission's Web site.

Additional Information

Additional information about the project is available from the Commission's Office of External Affairs, at 1-866-208-FERC or on the Internet at http://www.ferc.gov using the “eLibrary” link. Click on the eLibrary link, click on “General Search” and enter the docket number, excluding the last three digits, in the Docket Number field. Be sure you have selected an appropriate date range. For assistance, please contact FERC Online Support at FercOnlineSupport@ferc.gov or toll free at 1-866-208-3676, or for TTY, contact (202)502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries and direct links to the documents. Go to http://www.ferc.gov/esubscribenow.htm.

Finally, public meetings or site visits will be posted on the Commission's calendar located at http://www.ferc.gov/EventCalendar/EventsList.aspx along with other related information.

Kimberly D. Bose,
Secretary.

[FR Doc. E9-15898 Filed 7-6-09; 8:45 am]

BILLING CODE 6717-01-P